DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than January 21, 2016.

Interested persons are invited to submit written comments regarding the subject matter of the investigations to the Director, Office of Trade Adjustment Assistance, at the address shown below, not later than January 21, 2016.

The petitions filed in this case are available for inspection at the Office of the Director, Office of Trade Adjustment Assistance, Employment and Training Administration, U.S. Department of Labor, Room N-5428, 200 Constitution Avenue NW., Washington, DC 20210.

Signed at Washington, DC, this 16th day of December 2015.
Jessica R. Webster,
Certifying Officer, Office of Trade Adjustment Assistance.

APPENDIX

102 TAA Petitions Instituted Between 11/9/15 and 12/11/15
TA-W | Subject firm (petitioners) | Location | Date of institution | Date of petition
91116 | Warner Home Video (Company) | Burbank, CA | 11/09/15 | 11/06/15
91117 | Altairnano (Company) | Reno, NV | 11/09/15 | 11/08/15
91118 | Zurn Industries (Union) | Erie, PA | 11/09/15 | 11/08/15
91119 | TAPI Puerto Rico (State/One-Stop) | Guayama, PR | 11/09/15 | 11/09/15
91120 | Inteva Products (Union) | North Kansas City, MO | 11/10/15 | 10/30/15
91121 | REC Silicon ASA (Company) | Silver Bow, MT | 11/10/15 | 11/04/15
91122 | Alcoa Intalco Works (Union) | Ferndale, WA | 11/10/15 | 11/09/15
91123 | 3M Brookville (State/One-Stop) | Brookville, OH | 11/10/15 | 11/05/15
91124 | ARM Inc. (Workers) | Olympia, WA | 11/10/15 | 11/09/15
91125 | Alcoa Wenatchee Works (Union) | Malaga, WA | 11/12/15 | 11/06/15
91126 | Thomson Reuters (State/One-Stop) | Valhalla, NY | 11/12/15 | 11/06/15
91127 | Avery Dennison (State/One-Stop) | Covina, CA | 11/12/15 | 11/03/15
91128 | AirDye Solutions LLC (Workers) | Harrisonburg, VA | 11/12/15 | 11/03/15
91129 | WestRock Services, Inc. (Company) | Coshocton, OH | 11/12/15 | 11/10/15
91130 | Trinseo LLC (State/One-Stop) | Gales Ferry, CT | 11/12/15 | 11/10/15
91131 | Areo Precision Products (Company) | Summerville, SC | 11/12/15 | 11/11/15
91132 | Century Aluminum of South Carolina Inc. (Company) | Goose Creek, SC | 11/12/15 | 11/11/15
91133 | Verizon Enterprise Solutions (Workers) | San Antonio, TX | 11/12/15 | 11/11/15
91134 | Meritor (Company) | Heath, OH | 11/12/15 | 11/12/15
91135 | ShopKo Store Support Center (Workers) | Green Bay, WI | 11/13/15 | 11/12/15
91136 | Neenah Paper, Inc. (State/One-Stop) | Fitchburg, MA | 11/13/15 | 11/13/15
91137 | Baker Hughes (State/One-Stop) | San Antonio, TX | 11/13/15 | 11/10/15
91138 | GrafTech International Holdings, Inc. (Company) | Anmoore, WV | 11/13/15 | 11/03/15
91139 | Leggett & Platt Springs Manufacturing LLC (State/One-Stop) | Colorado Springs, CO | 11/16/15 | 11/13/15
91140 | Eagle Wings Industries, Inc. (State/One-Stop) | Rantoul, IL | 11/16/15 | 11/13/15
91141 | International Paper Mill (Workers) | Courtland, AL | 11/16/15 | 11/15/15
91142 | BASF Corporation (State/One-Stop) | Florham Park, NJ | 11/16/15 | 11/13/15
91143 | RBS Citizens Bank National Association dba Citizens Bank, NA (State/One-Stop) | Riverside, RI | 11/16/15 | 11/16/15
91144 | Micron Technology Puerto Rico (Company) | Aguadilla, PR | 11/17/15 | 11/16/15
91145 | Joy Global (State/One-Stop) | Franklin, PA | 11/17/15 | 11/16/15
91146 | Nidec Motor Corporation (State/One-Stop) | Paragould, AR | 11/17/15 | 11/16/15
91147 | Mayhem (State/One-Stop) | Tulsa, OK | 11/17/15 | 11/16/15
91148 | XPO Logistics Inc. (State/One-Stop) | Portland, OR | 11/18/15 | 11/17/15
91149 | Time Customer Service Inc. (State/One-Stop) | Tampa, FL | 11/18/15 | 11/17/15
91150 | Avery Products Corporation (Company) | Meridian, MS | 11/18/15 | 11/17/15
91151 | The Directional Drilling Company (State/One-Stop) | Casper, WY | 11/18/15 | 11/17/15
91152 | PetroChoice (State/One-Stop) | Chisholm, MN | 11/18/15 | 11/17/15
91153 | Horizon Mud Company (State/One-Stop) | Midland, TX | 11/18/15 | 11/17/15
91154 | Allen Logging Co. Inc. (State/One-Stop) | Forks, WA | 11/18/15 | 11/17/15
91155 | Apache Corporation (Workers) | Tulsa, OK | 11/19/15 | 11/16/15
91156 | Guardian Life Insurance Co (State/One-Stop) | Appleton, WI | 11/19/15 | 11/18/15
91157 | Warren Steel Holdings, LLC (Union) | Warren, OH | 11/19/15 | 11/18/15
91158 | Motorola Mobility (Workers) | Fort Worth, TX | 11/19/15 | 11/18/15
91159 | Century Aluminum (State/One-Stop) | Robards, KY | 11/19/15 | 11/18/15
91160 | Magnetation LLC (State/One-Stop) | Bovey, MN | 11/19/15 | 11/18/15
91161 | Cleveland Range LLC, Div. of Manitowoc Foodservice (Company) | Fort Wayne, IN | 11/19/15 | 11/18/15
91162 | Carlson Wagonlit Travel (State/One-Stop) | St. Louis, MO | 11/19/15 | 11/18/15
91163 | GE Power and Water (Company) | Waukesha, WI | 11/20/15 | 11/18/15
91164 | Watts Radiant (State/One-Stop) | Springfield, MO | 11/20/15 | 11/19/15
91165 | Advanced Energy (State/One-Stop) | Bend, OR | 11/20/15 | 11/19/15
91166 | DJO Global/Exos (State/One-Stop) | Shoreview, MN | 11/20/15 | 11/19/15
91167 | De-Sta-Co, Dover Company (Union) | Auburn Hills, MI | 11/23/15 | 10/27/15
91168 | MPW Industrial Services (Company) | Hebron, OH | 11/23/15 | 11/20/15
91169 | Technicolor Creative Services (State/One-Stop) | Burbank, CA | 11/23/15 | 11/20/15
91170 | Enovation Controls (State/One-Stop) | Tulsa, OK | 11/24/15 | 11/23/15
91171 | Safilo USA (State/One-Stop) | Parsippany, NJ | 11/24/15 | 11/23/15
91172 | Wheelock Manufacturing Inc. (Company) | Morocco, IN | 11/24/15 | 11/23/15
91173 | Schlumberger (E & P Wireline) (Workers) | Moore, OK | 11/24/15 | 11/23/15
91174 | Trinet/SourceMedia (State/One-Stop) | New York, NY | 11/24/15 | 11/23/15
91175 | Harris Rebar/Ambassador Steel (Workers) | Auburn, IN | 11/24/15 | 11/15/15
91176 | Tronox (Workers) | Hamilton, MS | 11/25/15 | 11/19/15
91177 | PTC Alliance (B.F. #1) (Union) | Beaver Falls, PA | 11/25/15 | 11/14/15
91178 | Energizer (State/One-Stop) | Bennington, VT | 11/25/15 | 11/25/15
91179 | J.P. Morgan Chase (State/One-Stop) | Louisville, KY | 11/27/15 | 11/25/15
91180 | Motorola Solutions (Workers) | Schaumburg, IL | 11/30/15 | 11/30/15
91181 | Horizon Energy Services, LLC (State/One-Stop) | Stillwater, OK | 11/30/15 | 11/05/15
91182 | Maverick Innovatiive Solutions, LLC (Company) | Ashland, OH | 11/30/15 | 11/05/15
91183 | Baker Hughes (Workers) | Tulsa, OK | 11/30/15 | 11/25/15
91184 | BI Technologies—TT Electronics (Company) | Fullerton, CA | 12/01/15 | 11/30/15
91185 | The NPD Group (Workers) | Port Washington, NY | 12/02/15 | 12/01/15
91186 | Daikin Applied (State/One-Stop) | Auburn, NY | 12/02/15 | 12/01/15
91187 | SiHi Pumps (State/One-Stop) | Grand Island, NY | 12/02/15 | 12/01/15
91188 | NN, Inc.-Autocam Precision Components Group (State/One-Stop) | Wheeling, IL | 12/02/15 | 12/02/15
91189 | Diversified Well Logging (State/One-Stop) | Corpus Christi, TX | 12/02/15 | 10/14/15
91190 | D+H (Workers) | Bothell, WA | 12/03/15 | 12/02/15
91191 | Farrow Innovations LLC (Company) | Bryan, TX | 12/03/15 | 11/24/15
91192 | Xerox Corporation—Business Services LLC (State/One-Stop) | Dallas, TX | 12/03/15 | 12/02/15
91193 | Marietta/KIK Corp including Select Temporary Services (State/One-Stop) | Los Angeles, CA | 12/04/15 | 12/03/15
91194 | Kelly Services, Inc. on-site at Baker Hughes (State/One-Stop) | Claremore, OK | 12/04/15 | 12/03/15
91195 | NRG Energy, Inc. (Union) | Dunkirk, NY | 12/07/15 | 12/04/15
91196 | Federal-Mogul (State/One-Stop) | Orangeburg, SC | 12/07/15 | 12/04/15
91197 | Mercer (State/One-Stop) | Dallas, TX | 12/07/15 | 12/04/15
91198 | Chester Forest Products/Gardner Chip Mills (Company) | Chester, ME | 12/07/15 | 12/04/15
91199 | Alliance Resource Partners LLC (Workers) | Princeton, IN | 12/08/15 | 12/04/15
91200 | Valterra Products, LLC (Workers) | Avon Lake, OH | 12/08/15 | 12/08/15
91201 | Anthem, Inc. (State/One-Stop) | Cape Girardeau, MO | 12/08/15 | 12/08/15
91202 | Covidien (Workers) | Mansfield, MA | 12/08/15 | 12/07/15
91203 | Tango Networks/Trinet (Workers) | Frisco, TX | 12/08/15 | 12/07/15
91204 | Globo Mobile Technologies Inc. (Workers) | Canfield, OH | 12/08/15 | 12/07/15
91205 | KBR (State/One-Stop) | Houston, TX | 12/09/15 | 12/08/15
91206 | TGI Fridays (Company) | Carrollton, TX | 12/10/15 | 12/09/15
91207 | LG Nano H2O/LG Chem (State/One-Stop) | Hawthorne, CA | 12/10/15 | 12/09/15
91208 | Lexmark International (Workers) | Lexington, KY | 12/10/15 | 12/09/15
91209 | L&M Radiator (State/One-Stop) | Hibbing, MN | 12/10/15 | 12/09/15
91210 | General Securities Services Corporation (State/One-Stop) | Babbitt, MN | 12/10/15 | 12/09/15
91211 | D+H (Workers) | Portland, OR | 12/11/15 | 12/10/15
91212 | Amdocs (Workers) | Richardson, TX | 12/11/15 | 12/10/15
91213 | Superior Rock Bit Company (State/One-Stop) | Virginia, MN | 12/11/15 | 12/10/15
91214 | Parker Aerospace (State/One-Stop) | Liberty Lake, WA | 12/11/15 | 12/10/15
91215 | QBE North America (Workers) | Sun Prairie, WI | 12/11/15 | 12/03/15
91216 | Custom Metal Finishers (State/One-Stop) | Mountain View, MO | 12/11/15 | 12/04/15
91217 | Flextronics (Company) | West Columbia, SC | 12/11/15 | 12/10/15

[FR Doc. 2016-00232 Filed 1-8-16; 8:45 am]

BILLING CODE 4510-FN-P